Title 3—

The President

Proclamation 7965 of November 22, 2005

National Drunk and Drugged Driving Prevention Month, 2005

By the President of the United States of America

A Proclamation

During National Drunk and Drugged Driving Prevention Month, we renew our efforts to educate all Americans about the tragic consequences of impaired driving and encourage all Americans to drive responsibly.

Every year, too many of our citizens get behind the wheel of an automobile after drinking alcohol or using drugs. This puts drivers, passengers, and others on the road at risk. Last year alone, drunk driving killed more than 16,000 people and accounted for more than 30 percent of all motor vehicle deaths.

My Administration remains committed to saving lives and preventing injuries resulting from drunk and drugged driving. The Department of Transportation's National Highway Traffic Safety Administration oversees the “You Drink & Drive. You Lose.” program, which educates our citizens about the dangers of driving under the influence. This campaign also encourages lifesaving measures to help keep impaired drivers off the road—including sobriety checkpoints, saturation patrols, and prosecution of those who break the law. To protect our Nation's young people and deter underage drinking, the Helping America's Youth initiative, led by First Lady Laura Bush, is promoting positive youth development and educating our children about the dangers associated with alcohol and drug use. With the help of parents, educators, and faith-based and community organizations, this initiative teaches our children to avoid alcohol and drug use, make healthy choices, and build lives of purpose.

Keeping drunk and drugged drivers off the road is vital for the safety of our loved ones and fellow citizens. All Americans can encourage responsible actions and work to ensure that those around them do not operate a vehicle while under the influence. When law enforcement, communities, and individuals unite against impaired driving, lives are saved and our Nation's roadways are made safer for everyone.

NOW, THEREFORE, I, GEORGE W. BUSH, President of the United States of America, by virtue of the authority vested in me by the Constitution and laws of the United States, do hereby proclaim December 2005 as National Drunk and Drugged Driving Prevention Month. I encourage all Americans to help keep our Nation's roadways safe by making responsible decisions and taking appropriate measures to prevent drunk and drugged driving.

IN WITNESS WHEREOF, I have hereunto set my hand this twenty-second day of November, in the year of our Lord two thousand five, and of the Independence of the United States of America the two hundred and thirtieth.

B

[FR Doc. 05-23549

Filed 11-29-05; 9:09 am]

Billing code 3195-01-P